NATIONAL TRANSPORTATION SAFETY BOARD

Public Hearing

The National Transportation Safety Board will convene a public hearing beginning at 11 a.m., local time on Wednesday, December 13-15, 2000, in the Safety Board's Boardroom and Conference Center at 429 L'Enfant Plaza SW, Washington, DC 20594 concerning Alaska Airlines Flight 261 off the coast of California near Port Hueneme on January 31, 2000. For more information, contact Dick Rodriquez, NTSB Office of Aviation Safety at (202) 314-6317 or Terry N. Williams NTSB Office of Public Affairs at (202) 314-6100.

Individuals requesting specific accommodation should contact Mrs. Carolyn Dargan on 202-314-6305 by Friday December 8, 2000.

Dated: December 4, 2000.
Rhonda Underwood,
Federal Register Liaison Officer.

[FR Doc. 00-31169 Filed 12-6-00; 8:45 am]

BILLING CODE 7533-01-P